DEPARTMENT OF COMMERCE

National Oceanic and Atmospheric Administration

[I.D. 021704F]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 7-12, 2004. The Council meeting will begin on Tuesday, March 9, at 8 a.m., reconvening each day through Friday. All meetings are open to the public, except a closed session will be held from 8 a.m. until 9 a.m. on Tuesday, March 9 to address litigation and personnel matters. The Council will meet as late as necessary each day to complete its scheduled business.

ADDRESSES: The meetings will be held at the Sheraton Tacoma Hotel, 1320 Broadway Plaza, Tacoma, WA 98402; telephone: 253-572-3200.

Council address: Pacific Fishery Management Council, 7700 NE Ambassador Place, Suite 200, Portland, OR 97220.

FOR FURTHER INFORMATION CONTACT: Dr. Donald O. McIsaac, Executive Director; telephone: (503) 820-2280 or (866) 806-7204.

SUPPLEMENTARY INFORMATION: The following items are on the Council agenda, but not necessarily in this order:

A. Call to Order

1. Opening Remarks and Introductions

2. Roll Call

3. Executive Director's Report

4. Approve Agenda

B. Administrative Matters

1. Approval of Council Meeting Minutes

2. Legislative Matters

3. Appointments to Advisory Bodies, Standing Committees, and Other Forums

4. Draft April 2004 Council Meeting Agenda

5. Regional Council Conference: Magnuson-Stevens Act The First 25 Years

C. Salmon Management

1. Update on Pacific Salmon Commission Coho Fishery Regulatory Assessment Model for 2004 Salmon Management

2. Review of 2003 Fisheries and Summary of 2004 Stock Abundance Estimates

3. Inseason Management Recommendations for Seasons Prior to May 1 for the Commercial Fishery Between Horse Mountain and Point Arena (Fort Bragg Area)

4. Identification of Management Objectives and Preliminary Definition of 2004 Salmon Management Options

5. Council Recommendations for 2004 Management Option Analysis

6. Salmon Fishery Management Plan Amendment Issues

7. Update on Mitchell Act Hatchery Needs

8. Council Direction for 2004 Management Options (If Necessary)

9. Adoption of 2004 Management Options for Public Review

10. Salmon Hearings Officers

D. Enforcement Issues

1. Contact-to-Violation Ratio in the Recreational Groundfish Fishery

2. U.S. Coast Guard Fishery Enforcement

E. Groundfish Management

1. NMFS Report

2. Lingcod and Cabezon Stock Assessments for 2005-06

3. Stock Assessment Planning for 2007-08 Fishery Management

4. Status of Groundfish Fisheries and Inseason Adjustments

5. Pacific Whiting Management

F. Pacific Halibut Management

1. NMFS Report

2. Report on International Pacific Halibut Commission Annual Meeting

3. Public Review Options for the 2004 Incidental Catch Regulations in the Salmon Troll and Fixed Gear Sablefish Fisheries

G. Habitat

1. Current Habitat Issues

2. Corals and Living Substrate Report

3. Artificial Reefs in Southern California

H. Marine Protected Areas

1. Marine Reserves in the Federal Waters Portion of the Channel Islands National Marine Sanctuary

2. Scientific and Statistical Committee Review of Marine Reserves Issues

3. Update on Other Marine Protected Area Activities

SCHEDULE OF ANCILLARY MEETINGS
SUNDAY, MARCH 7, 2004 |  |
Groundfish Management Team | 2 p.m. | Tacoma 4 Room
MONDAY, MARCH 8, 2004 |  |
Council Secretariat | 8 a.m. | Main Hall D
Groundfish Advisory Subpanel | 8 a.m. | Tacoma 3 Room
Groundfish Management Team | 8 a.m. | Tacoma 4 Room
Klamath Fishery Management Council | 8 a.m. | Tacoma 1 Room
Salmon Advisory Subpanel | 8 a.m. | Main Hall E
Salmon Technical Team | 8 a.m. | Main Hall C
Scientific and Statistical Committee | 8 a.m. | Main Hall F
Habitat Committee | 1 p.m. | South/Center Room
Legislative Committee | 11 a.m. | 2nd Floor Boardroom
Tribal Policy Group | As necessary | Tacoma 2 Room
Tribal and Washington Technical Groups | As necessary | Executive Board Room
Washington State Delegation | As necessary | North Room
TUESDAY, MARCH 9, 2004 |  |
Council Secretariat | 7 a.m. | Main Hall D
California State Delegation | 7 a.m. | Tacoma 3 Room
Oregon State Delegation | 7 a.m. | 2nd Floor Boardroom
Groundfish Advisory Subpanel | 8 a.m. | Tacoma 3 Room
Groundfish Management Team | 8 a.m. | Tacoma 4 Room
Habitat Committee | 8 a.m. | South/Center Room
Salmon Advisory Subpanel | 8 a.m. | Main Hall E
Salmon Technical Team | 8 a.m. | Main Hall C
Scientific and Statistical Committee | 8 a.m. | Main Hall F
Enforcement Consultants | Immediately following Council session | 2nd Floor Boardroom
Klamath Fishery Management Council | As necessary | Tacoma 1 Room
Tribal Policy Group | As necessary | Tacoma 2 Room
Tribal and Washington Technical Groups | As necessary | Executive Board Room
Washington State Delegation | As necessary | North Room
WEDNESDAY, MARCH 10, 2004 |  |
Council Secretariat | 7 a.m. | Main Hall D
California State Delegation | 7 a.m. | Tacoma 3 Room
Oregon State Delegation | 7 a.m. | 2nd Floor Boardroom
Groundfish Advisory Subpanel | 8 a.m. | Tacoma 3 Room
Groundfish Management Team | 8 a.m. | Tacoma 4 Room
Salmon Advisory Subpanel | 8 a.m. | Main Hall E
Salmon Technical Team | 8 a.m. | Main Hall C
Scientific and Statistical Committee | 8 a.m. | Main Hall F
Enforcement Consultants | As necessary | 2nd Floor Boardroom
Klamath Fishery Management Council | As necessary | Tacoma 1 Room
Tribal Policy Group | As necessary | Tacoma 2 Room
Tribal and Washington Technical Groups | As necessary | Executive Board Room
Washington State Delegation | As necessary | North Room
THURSDAY, MARCH 11, 2004 |  |
Council Secretariat | 7 a.m. | Main Hall D
California State Delegation | 7 a.m. | Tacoma 3 Room
Oregon State Delegation | 7 a.m. | 2nd Floor Boardroom
Groundfish Advisory Subpanel | 8 a.m. | Tacoma 3 Room
Groundfish Management Team | 8 a.m. | Tacoma 4 Room
Salmon Advisory Subpanel | 8 a.m. | Main Hall E
Salmon Technical Team | 8 a.m. | Main Hall C
Enforcement Consultants | As necessary | 2nd Floor Boardroom
Klamath Fishery Management Council | As necessary | Tacoma 1 Room
Tribal Policy Group | As necessary | Tacoma 2 Room
Tribal and Washington Technical Groups | As necessary | Executive Board Room
Washington State Delegation | As necessary | North Room
FRIDAY, MARCH 12, 2004 |  |
Council Secretariat | 7 a.m. | Main Hall D
California State Delegation | 7 a.m. | Tacoma 3 Room
Oregon State Delegation | 7 a.m. | 2nd Floor Boardroom
Salmon Advisory Subpanel | 8 a.m. | Main Hall E
Salmon Technical Team | 8 a.m. | Main Hall C
Enforcement Consultants | As necessary | 2nd Floor Boardroom
Tribal Policy Group | As necessary | Tacoma 1 Room
Tribal and Washington Technical Groups | As necessary | Tacoma 2 Room
Washington State Delegation | As necessary | Executive Board Room

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: February 18, 2004.
Tracey Thompson,
Acting Director, Office of Sustainable Fisheries, National Marine Fisheries Service.

[FR Doc. E4-343 Filed 2-20-04; 8:45 am]

BILLING CODE 3510-22-S